DEPARTMENT OF JUSTICE

Notice of Lodging of Consent Decree Under the Clean Air Act

Under 28 CFR 50.7, notice is hereby given that on December 20, 2001, a Consent Decree in United States, et al. v. Navajo Refining, Co., et al., Civil Action No. Civ-01-1422 LH/LCS, was lodged with the United States District Court for the District of New Mexico.

In a complaint that was filed simultaneously with the Consent Decree, the United States sought injunctive relief and penalties against Navajo Refining Company (‘Navajo”) and Montana Refining Company (‘Montana Refining”), pursuant to section 113(b) of the Clean Air Act (‘CAA”), 42 U.S.C. 7413(b) (1983), amended by, 42 U.S.C. 7413(b) (Supp. 1991) for alleged CAA violations at Navajo's two refineries in Artesia and Lovington, New Mexico, and at Montana Refining's refinery in Great Falls, Montana.

Under the settlement, Navajo and Montana Refining will implement innovative pollution control technologies to greatly reduce emissions of nitrogen oxides (‘NOX”) and sulfur dioxide (“SO2”) from refinery process units and they will adopt facility-wide enhanced monitoring and fugitive emission control programs. In addition, Navajo and Montana Refining will pay a civil penalty of $400,000 for settlement of the claims in the United States' complaint, and Navajo will pay $350,000 for settlement of claims raised by the State of New Mexico in two compliance orders that New Mexico issued to Navajo in May and July of 2001. Navajo also will perform environmentally beneficial projects totaling approximately $1.4 million. The States of New Mexico and Montana will join in this settlement as signatories to the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al., v. Navajo Refining Co., et al. D.J. Ref. 90-5-2-1-2228/1.

The Consent Decree may be examined at the Office of the United States Attorney, 201 3rd St., NW., Suite 900, Albuquerque, New Mexico, 87102, and at U.S. EPA Region 6, Fountain Place, 1445 Ross Avenue, Dallas, TX 75202. A copy of the Consent Decree may also be obtained by mail from the Consent Decree Library, P.O. Box 7611, U.S. Department of Justice, Washington, DC 20044-7611. In requesting a copy, please enclose a check in the amount of $53.25 (25 cents per page reproduction cost) payable to the Consent Decree Library.

Robert D. Brook,
Assistant Section Chief, Environmental Enforcement Section, Environment and Natural Resources Division.

[FR Doc. 01-32216 Filed 12-31-01; 8:45 am]

BILLING CODE 4410-15-M